DEPARTMENT OF COMMERCE

International Trade Administration

[A-570-504]

Notice of Extension of Time Limit for Antidumping Duty Administrative Review: Petroleum Wax Candles From the People's Republic of China

AGENCY: Import Administration, International Trade Administration, Department of Commerce.

ACTION: Extension of time limit.

EFFECTIVE DATE: April 18, 2000.

SUMMARY: The Department of Commerce (the Department) is extending the time limit for the preliminary results of the administrative review of the antidumping duty order on petroleum wax candles from the People's Republic of China. This review involves four respondents (Universal Candle Company, Ltd., Liaoning Native Product Import & Export Corporation, Tianjin Native Produce Import and Export Group Corporation, Ltd., and Rich Talent Trading, Ltd.) and covers the period August 1, 1998-July 31, 1999.

FOR FURTHER INFORMATION CONTACT: Martin Odenyo at (202) 482-5254 or Robert James at (202) 482-0649, Antidumping and Countervailing Duty Enforcement Group III, Import Administration, International Trade Administration, U.S. Department of Commerce, 14th Street and Constitution Ave, NW, Washington, DC 20230.

SUPPLEMENTARY INFORMATION: Because it is not practicable to complete this review within the time limits mandated by section 751(a)(3)(A) of the Tariff Act of 1930, as amended (the Tariff Act), the Department is extending the time limit for completion of the preliminary results until Wednesday, August 30, 2000. See April 6, 2000 Memorandum from Richard O. Weible to Joseph A. Spetrini, on file in Room B-099 of the main Commerce building. The final results of this administrative review will continue to be due no later than 120 days after the date on which the preliminary results are published.

This extension is in accordance with section 751(a)(3)(A) of the Tariff Act, as amended.

Dated: April 6, 2000.
Joseph A. Spetrini,
Deputy Assistant Secretary, AD/CVD Enforcement Group III.

[FR Doc. 00-9688 Filed 4-17-00; 8:45 am]

BILLING CODE 3510-DS-P